DEPARTMENT OF HOMELAND SECURITY

Coast Guard

[Docket No. USCG-2019-0483]

National Chemical Transportation Safety Advisory Committee; Initial Solicitation for Members

AGENCY: Coast Guard, Department of Homeland Security.

ACTION: Request for applications.

SUMMARY: The Coast Guard is requesting applications from persons interested in membership on the National Chemical Transportation Safety Advisory Committee (“Committee”). This recently established Committee will advise the Secretary of the Department of Homeland Security on matters relating to the safe and secure marine transportation of hazardous materials. Please read this notice for a description of the Committee positions we are seeking to fill.

DATES: Your completed application should reach the Coast Guard on or before April 24, 2020.

ADDRESSES: Applicants should send a cover letter expressing interest in an appointment to the National Chemical Transportation Safety Advisory Committee and a resume detailing the applicant's experience. We will not accept a biography. Applications should be submitted via one of the following methods:

• By Email: Jessica.P.Anderson@uscg.mil (preferred).

• By Mail: Lieutenant Jessica Anderson, Alternate Designated Federal Officer, Commandant (CG-ENG-5), U.S. Coast Guard Stop 7509, 2703 Martin Luther King Jr. Avenue SE, Washington, DC 20593-7509.

FOR FURTHER INFORMATION CONTACT: Lieutenant Jessica Anderson, Alternate Designated Federal Officer of the National Chemical Transportation Safety Advisory Committee; Telephone 202-372-1419; or Email at Jessica.P.Anderson@uscg.mil.

SUPPLEMENTARY INFORMATION: The National Chemical Transportation Safety Advisory Committee is a federal advisory committee. It will operate under the provisions of the Federal Advisory Committee Act, 5 United States Code, Appendix, and 46 U.S.C. 15101 and 15109. The Committee was established on December 4, 2018, by section 601 of the Frank LoBiondo Coast Guard Authorization Act of 2018, Public Law 115-282. The purpose of the Committee is to advise the Secretary of Homeland Security on matters relating to the safe and secure marine transportation of hazardous materials. In accordance with 46 U.S.C. 15101(c), the Committee is to be comprised of not more than 25 members, each of who has particular expertise, knowledge, and experience in matters relating to the function of the Committee. Each member of the Committee must represent one of the following: The chemical manufacturing entities, entities related to marine handling or transportation of chemicals, vessel design and construction entities, marine safety or security entities, or marine environmental protection entities. The number of members representing each category may vary with the needs of the Coast Guard.

In accordance with 46 U.S.C. 15109(a), the Committee is required to hold meetings at least once a year. We expect the Committee to meet at least twice a year, but it may meet more frequently. We generally plan to hold these meetings in cities that have a high concentration of chemical transportation-industry and related businesses. All members will serve at their own expense and receive no salary or other compensation from the Federal Government. In accordance with Federal Travel Regulations, members will not be reimbursed for travel or per diem. Under 46 U.S.C. 15109(f) (6), membership terms expire on December 31st of the third full year after the effective date of appointment. The Secretary may require an individual to have passed an appropriate security background examination before appointment to the Committee, 46 U.S.C. 15109(f) (4). Registered lobbyists are not eligible to serve on federal advisory committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Lieutenant Jessica Andersen, Alternate Designated Federal Officer of the National Chemical Transportation Safety Advisory Committee via one of the transmittal methods in the ADDRESSES section by the deadline in the DATES section of this notice. If you send your application to us via email, we will send you an email confirming receipt of your application.

Dated: February 14, 2020.
Jeffrey G. Lantz,
Director of Commercial Regulations and Standards.

[FR Doc. 2020-03581 Filed 2-21-20; 8:45 am]

BILLING CODE 9110-04-P